DEPARTMENT OF JUSTICE

Notice of Lodging of Proposed Consent Decree Under the Clean Air Act

On October 6, 2016, the Department of Justice lodged a proposed Consent Decree with the United States District Court for the District of Columbia in the lawsuit entitled United States v. Detroit Diesel Corporation, Civil Action No. 1:16-cv-01982.

The government's complaint alleges that Detroit Diesel violated the Clean Air Act by introducing into commerce 7,786 heavy-duty diesel engines for use in trucks and buses in model year 2010 without a valid EPA-issued certificate of conformity demonstrating conformance with Clean Air Act standards to control nitrogen oxide (NOX) emissions. The complaint also alleges that the engines did not conform to emission standards applicable to model year 2010 engines.

The Consent Decree requires Detroit Diesel to spend $14.5 million on mitigation projects to reduce NOX emissions and other pollutants, including replacing high-polluting diesel school buses and locomotive engines with models that meet current emissions standards. Detroit Diesel will also pay a civil penalty of $14 million.

The publication of this notice opens a period for public comment on the Consent Decree. Comments should be addressed to the Assistant Attorney General, Environment and Natural Resources Division, and should refer to United States v. Detroit Diesel Corporation, D.J. Ref. No. 90-5-2-1-10557. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Decree upon written request and payment of reproduction costs. Please mail your request and payment to: Consent Decree Library, U.S. DOJ—ENRD, P.O. Box 7611, Washington, DC 20044-7611.

Please enclose a check or money order for $13.75 (25 cents per page reproduction cost) payable to the United States Treasury.

Karen Dworkin,
Assistant Section Chief, Environmental Enforcement Section, Environment and Natural Resources Division.

[FR Doc. 2016-24645 Filed 10-11-16; 8:45 am]

BILLING CODE 4410-15-P